DEPARTMENT OF EDUCATION

President's Board of Advisors on Historically Black Colleges and Universities

AGENCY: U.S. Department of Education, President's Board of Advisors on Historically Black Colleges and Universities, Office of Secretary, U.S. Department of Education.

ACTION: Announcement of an open meeting.

SUMMARY: This notice sets forth the agenda for the April 5, 2023, hybrid meeting of the President's Board of Advisors on Historically Black Colleges and Universities (Board) and provides information to members of the public about how to attend the meeting, request to make oral comments at the meeting, and submit written comments pertaining to the work of the Board.

DATES: The Board meeting will be held on April 5, 2023 from 10 a.m. to 4 p.m. E.D.T. on the campus of Norfolk State University, 700 Park Avenue, Norfolk, Virginia 23504 in the Norfolk State University Student Center, Dorothy B. Brothers Auditorium, Room 149. The public may also join the meeting virtually at https://ems8.intellor.com/login/847260, join the Zoom event and follow the prompts to connect audio by computer or utilize the “call me” feature for audio by telephone.

FOR FURTHER INFORMATION CONTACT: Sedika Franklin, Associate Director/Designated Federal Official, U.S. Department of Education, White House Initiative on Historically Black Colleges and Universities, 400 Maryland Avenue SW, Washington, DC 20204; telephone: (202) 453-5634 or (202) 453-5630, or email sedika.franklin@ed.gov.

SUPPLEMENTARY INFORMATION:

The Board's Statutory Authority and Function: The Board is established by 20 U.S.C. 1063e (the HBCUs Partners Act) and Executive Order 14041 (September 3, 2021) and is continued by Executive Order 14048 (September 30, 2021). The Board is also governed by the provisions of 5 U.S.C. Chapter 10 (Federal Advisory Committees), which sets forth standards for the formation and use of advisory committees. The purpose of the Board is to advise the President, through the White House Initiative on Historically Black Colleges and Universities (Initiative), on all matters pertaining to strengthening the educational capacity of Historically Black Colleges and Universities (HBCUs).

The Board shall advise the President in the following areas: (i) improving the identity, visibility, and distinctive capabilities and overall competitiveness of HBCUs; (ii) engaging the philanthropic, business, government, military, homeland-security, and education communities in a national dialogue regarding new HBCU programs and initiatives; (iii) improving the ability of HBCUs to remain fiscally secure institutions that can assist the Nation in achieving its educational goals and in advancing the interests of all Americans; (iv) elevating the public awareness of, and fostering appreciation of, HBCUs; (v) encouraging public-private investments in HBCUs; and improving government-wide strategic planning related to HBCU competitiveness to align Federal resources and provide the context for decisions about HBCU partnerships, investments, performance goals, priorities, human capital development, and budget planning.

Meeting Agenda: The meeting agenda will include roll call; approval of the January 27, 2023 meeting minutes; an update from the Board Chairperson; a virtual update from the Under Secretary of the U.S. Department of Education; a work session for each of the Board's subcommittees (Preservation and Growth, Infrastructure, and Career Pathways and Financial Support and Research); a briefing from Braven's Founder and CEO; a briefing from the Student Freedom Initiative's Executive Director; and a discussion regarding the Board's first report to the President. The public comment period will begin immediately following the conclusion of such discussions.

Access to the Meeting: Registration is required to attend the meeting and may be submitted via email, in-person or via the virtual platform sign in page. To submit a registration in advance, please submit an email to the whirsvps@ed.gov mailbox by 11 a.m. on April 3, 2023. Please include in the subject line of the email “Meeting Registration.” The email must include the name(s), title, organization/affiliation (if applicable), mailing address, email address, and telephone number of the person(s) who will be attending the meeting. Upon arrival, pre-registered attendees will be asked to sign in at the meeting room registration table. Members of the public may also register in-person on the day of the meeting by signing in at the meeting room registration table. Those attending remotely will sign in prior to gaining access to the virtual meeting room.

Submission of requests to make an oral comment: Members of the public may email whirsvps@ed.gov to request to provide an oral comment pertaining to the work of the Board on April 5, 2023 during the public comment period of the meeting. There will be an allotted total time of 10 minutes for public comment.

Method: To request to provide an oral comment during the meeting, please submit an email to the whirsvps@ed.gov mailbox by April 3,2023. Please do not send materials directly to Board members. Include in the subject line of the email request “Oral Comment Request.” The email must include the name(s), title, organization/affiliation, email address, and telephone number of the person(s) requesting to speak, and a brief summary (not to exceed one page) of the principal points to be made. All individuals submitting an advance request in accordance with this notice will be added to the public comment request list for oral comment in the order in which they were received. Individuals will be called upon and each commenter will have an opportunity to speak for up to two minutes during the allotted public comment period. All oral comments made will become part of the official record of the meeting.

Submission of written public comments: Written comments pertaining to the work of the Board may be submitted electronically by 11 a.m. on April 3, 2023, send written comments via email to whirsvps@ed.gov and include in the subject line “Written Comments: Public Comment.” The email must include the name(s), title, organization/affiliation, email address, and telephone number of the person(s) making the comment. Comments should be submitted as a Microsoft Word document or in a medium compatible with Microsoft Word (not a PDF file) that is attached to the email or provided in the body of the email message. Please do not send material directly to the members of the Board. Written comments provided by the submission date will be distributed to the Members of the Board during the public comment period and will become part of the official record of the meeting.

Access to Records of the Meeting: The Department will post the official report of the meeting on the Board's website, https://sites.ed.gov/whhbcu/policy/presidents-board-of-advisors-pba-on-hbcus, no later than 90 days after the meeting. Pursuant to 5 U.S.C. 1009(b), the public may also inspect the meeting materials and other Board records at 400 Maryland Avenue SW, Washington, DC, by emailing oswhi-hbcu@ed.gov or by calling (202) 453-5634 to schedule an appointment.

Reasonable Accommodations: The meeting sites are accessible to individuals with disabilities. If you will need an auxiliary aid or service to participate in the meeting (e.g., interpreting service, assistive listening device, or materials in an alternate format), notify the contact person listed in this notice at least one week before the meeting date. Although we will attempt to meet a request received after that date, we may not be able to make available the requested auxiliary aid or service because of insufficient time to arrange it.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: HBCUs Partners Act, Presidential Executive Order 14041, continued by Executive Order 14048.

Donna M. Harris-Aikens,
Deputy Chief of Staff for Strategy, Office of the Secretary.

[FR Doc. 2023-06003 Filed 3-21-23; 8:45 am]

BILLING CODE 4000-01-P